DEPARTMENT OF THE INTERIOR

Notice of Natural Resource Damage Assessment and Restoration Advisory Committee Meeting

AGENCY: Office of the Secretary, Natural Resource Damage Assessment and Restoration Program Office, Interior.

ACTION: Notice; FACA Committee Meeting Announcement.

SUMMARY: As required by the Federal Advisory Committee Act, Public Law 92-463, the Department of the Interior, Natural Resource Damage Assessment and Restoration Program Office gives notice of the first meeting of the Department's Natural Resource Damage Assessment and Restoration Advisory Committee. The Advisory Committee will meet at the U.S. Fish and Wildlife Service National Conservation and Training Center, 698 Conservation Way, Shepherdstown, WV 25443 from 8 a.m. to 3 p.m. on December 1. Members of the public are invited to attend the Committee Meeting to listen to the committee proceedings and to provide public input. The Committee Meeting will be preceded on November 30 by a half-day administrative business meeting that will deal with non-substantive administrative matters such as logistics and travel reimbursement. The administrative business meeting is not open to the public. Maps and directions to the training center are available online at http://training.fws.gov/mapdir.html. Anyone without Internet access can call the Training Center at 304-876-1600 to request a map and directions.

Public Input: Any member of the public interested in providing public input at the Committee Meeting should contact Ms. Barbara Schmalz, whose contact information is listed under the FOR FURTHER INFORMATION CONTACT section of this notice. Each individual providing oral input is requested to limit those comments to three minutes. This time frame may be adjusted to accommodate all those who would like to speak. Requests to be added to the public speaker list must be received in writing (letter, e-mail, or fax) by noon eastern standard time on November 21, 2005. Anyone wishing to submit written comments should provide a copy of those comments to Ms. Schmalz in the following formats: one hard copy with original signature, and one electronic copy via e-mail (acceptable file formats are: Adobe Acrobat, WordPerfect, Word, or Rich Text files) by noon eastern standard time on November 21, 2005.

Document Availability: Interested individuals may view the draft agenda for the meeting online at http://restoration.doi.gov/faca or may request the draft agenda from Ms. Schmalz. In preparation for the first meeting of the Advisory Committee, the Committee and the public can find helpful background information at the Restoration Program website http://restoration.doi.gov. The site provides a good introduction to the program for those who are relatively new to the damage assessment and restoration arena and a useful reference for seasoned practitioners and policy leaders. Links to the statutory and regulatory framework for the program are found at http://restoration.doi.gov/laws.htm. DOI Program policies are found at http://restoration.doi.gov/policy.htm.

Agenda for Meeting

The agenda will cover the following principal subjects:

—Keynote/Kickoff address by senior Departmental official

—Discussion and finalization of committee by-laws

—Program Authorities, Responsibilities, and Application

—Formal public input (if any)

—Charge to the Committee

Meeting Access: Individuals requiring special accommodation at this meeting must contact Ms. Barbara Schmalz (see contact information below) by noon eastern standard time on November 21, 2005, so that appropriate arrangements can be made.

DATES: November 30, 2005, from 1 p.m. to 5 p.m. (administrative business meeting) December 1, 2005, from 8 a.m. to 3 p.m. (open to the public).

ADDRESSES: Auditorium, U.S Fish and Wildlife Service National Conservation and Training Center, 698 Conservation Way, Shepherdstown, WV 25443.

All individuals attending the Committee Meeting will be required to present photo identification to NCTC security to gain access to the Training Center campus.

FOR FURTHER INFORMATION CONTACT: Barbara Schmalz, U.S. Department of the Interior, Denver Federal Center, 6th Avenue & Kipling, Building 56 Room 1003 Mail Stop D-108, Denver, CO 80225-0007; phone 303-445-2500; fax 303-445-6320 or barbara_schmalz@ios.doi.gov.

Dated: November 4, 2005.
Frank M. DeLuise,
Designated Federal Officer, DOI Natural Resource Damage Assessment and Restoration Advisory Committee.

[FR Doc. 05-22392 Filed 11-9-05; 8:45 am]

BILLING CODE 4310-01-P